ENVIRONMENTAL PROTECTION AGENCY

[FRL-6850-7]

Acid Rain NOX Emission Reduction Program—Permit Modification for Alternative Emission Limitation

AGENCY: Environmental Protection Agency (EPA).

ACTION: Notice of permit modification adopting Alternative Emission Limitation.

SUMMARY: Under Title IV of the Clean Air Act, EPA established the Acid Rain NOX Emission Reduction Program to reduce the adverse effects of acidic deposition. EPA adopted nitrogen oxides (NOX) emission limits and issued permits to affected sources. EPA is issuing an Acid Rain permit modification for one unit. The permit modification adds to a permit an Alternative Emission Limitation for NOX emissions for a Phase I unit in accordance with the Acid Rain Program regulations. The Alternative Emission Limitation is less stringent than the standard limit for this type of unit but is the minimum rate that the unit can achieve during long-term dispatch operation with low NOX burners.

ADDRESSES: Administrative Records. The administrative record for the permit modification, except information protected as confidential, may be viewed during normal operating hours at the following location: EPA Region 5, 77 West Jackson Boulevard, 18th floor, Chicago, IL.

FOR FURTHER INFORMATION CONTACT: Susan Siepkowski, EPA Region 5, (312) 353-2654.

SUPPLEMENTARY INFORMATION: In today's action, EPA is issuing permit modification that adds to a permit an Alternative Emission Limitation for NOX emissions for a Phase I unit in accordance with parts 72 and 76 of the Acid Rain Program regulations. The unit involved, J.H. Campbell, Unit 1, is in Ottawa County, Michigan and will be required to meet an annual average emissions limit for NOX of 0.49 lb/mmBtu, instead of the otherwise applicable standard limit of 0.45 lb/mmBtu. The unit's designated representative is William M. Ritchie.

Dated: August 3, 2000.
Brian J. McLean,
Director, Acid Rain Division, Office of Atmospheric Programs, Office of Air and Radiation.

[FR Doc. 00-20729 Filed 8-15-00; 8:45 am]

BILLING CODE 6560-50-P